DEPARTMENT OF COMMERCE

International Trade Administration

Application(s) for Duty-Free Entry of Scientific Instruments

Pursuant to Section 6(c) of the Educational, Scientific and Cultural Materials Importation Act of 1966 (Pub. L. 89-651, as amended by Pub. L. 106-36; 80 Stat. 897; 15 CFR part 301), we invite comments on the question of whether instruments of equivalent scientific value, for the purposes for which the instruments shown below are intended to be used, are being manufactured in the United States.

Comments must comply with 15 CFR 301.5(a)(3) and (4) of the regulations and be postmarked on or before April 11, 2011. Address written comments to Statutory Import Programs Staff, Room 3720, U.S. Department of Commerce, Washington, DC 20230. Applications may be examined between 8:30 a.m. and 5 p.m. at the U.S. Department of Commerce in Room 3720.

Docket Number: 11-012. Applicant: UChicago Argonne, LLC. 9700 South Cass Ave., Lemont, IL 60439. Instrument: TFS500 Atomic Layer Deposition System. Manufacturer: Beneq OY, Finland. Intended Use: The instrument will be used in experiments on atomic layer deposition (ALD) growth of thin film materials to determine the optimal conditions of temperature, pressure, flux and precursor combinations. For the research the instrument is required to have a modular deposition chamber so that the system can be reconfigured to optimize the coating process for different substrates. It also requires a precursor delivery system that can be heated to 500 degrees Celsius to vaporize non-volatile chemical precursors. It also requires inert gas purging between the deposition chamber and outer heating chambers to contain the precursors without the need for a gas-tight seal at this junction. Justification for Duty-Free Entry: There are no instruments of the same general category being manufactured in the United States. Application accepted by Commissioner of Customs: February 2, 2011.

Docket Number: 11-016. Applicant: UChicago Argonne, LLC. 9700 South Cass Ave., Lemont, IL 60439-4873. Instrument: Single Roll Presser. Manufacturer: A-Pro Co., Ltd, South Korea. Intended Use: The instrument will be used for making novel electrodes for lithium-ion cells, which are subjected to electrochemical performance testing to determine the influence of the active materials in the electrodes and electrolyte. The instrument is unique in that it is semi-automated with a high attention to dimensional tolerances, temperature control and safety, helping guarantee that the research cells made will be of industrial level quality and consistency for the experiments. Justification for Duty-Free Entry: There are no instruments of the same general category being manufactured in the United States. Application accepted by Commissioner of Customs: February 2, 2011.

Docket Number: 11-018. Applicant: Purdue University, Birck Nanotechnology Center, 1205 West State Street, West Lafayette, IN 47907-2057. Instrument: Rapid Thermal Annealer. Manufacturer: Qualiflow Jipelec, France. Intended Use: The instrument will be used to conduct fast temperature ramping experiments with the purpose of annealing the research sample within. The instrument is designed for quick ramping of temperature in order to keep the thermal budget at a minimum. The instrument has a temperature ramp rate of 300 degrees Celsius per second. Other key characteristics that distinguish this instrument from others are vacuum purge capability and contamination control. Justification for Duty-Free Entry: There are no instruments of the same general category being manufactured in the United States. Application accepted by Commissioner of Customs: March 1, 2011.

Dated: March 16, 2011.
Gregory Campbell,
Acting Director, IA Subsidies Enforcement Office.

[FR Doc. 2011-6734 Filed 3-21-11; 8:45 am]

BILLING CODE 3510-DS-P